DEPARTMENT OF TRANSPORTATION

Federal Highway Administration

Notice of Final Federal Agency Actions on Proposed Highway in Minnesota

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, the extension of Scott County State Aid Highway (CSAH) 21 between CSAH 42 in Prior Lake and CSAH 18 at Southbridge Parkway in Shakopee and construction of a 500-space surface transit station (park-and-ride) in the southwest quadrant of the CSAH 21/CSAH 16 intersection in Scott County, Minnesota. Those actions grant approvals for the project.

DATES: By this notice, the FHWA is advising the public of final agency actions subject to 23 U.S.C. 139(1)(1). A claim seeking judicial review of the Federal agency actions of the highway project will be barred unless the claim is filed on or before 180 days from the date of this notice. If the Federal law that authorizes judicial review of a claim provides a time period of less than 180 days for filing such claim, then that shorter time period still applies.

FOR FURTHER INFORMATION CONTACT: For FHWA: Mr. Thomas Sorel, Division Administrator, Federal Highway Administration, Galtier Plaza, Suite 500, 380 Jackson Street, St. Paul, Minnesota 55101, Telephone (651) 291-6100, e-mail: Thomas.sorel@fhwa.dot.gov. The Minnesota Division Office's normal business hours are 7:30 a.m. to 4 p.m. (central time). For Scott County: Mr. Mitchell Rasmussen, P.E., County Engineer, Scott County Public Works Department, 600 Country Trail East, Jordan, Minnesota 55352, Telephone (952) 496-8346, (800) 627-3529 TTY, e-mail: mrasmussen@co.scott.mn.us.

SUPPLEMENTARY INFORMATION: Notice is hereby given that the FHWA and other Federal agencies have taken final agency actions by issuing approvals for the following highway project in Minnesota: Extension of Scott CSAH 21 between Prior Lake and Shakopee, Scott County, Minnesota. The project includes construction of an approximately three-mile, four-lane expressway. The project also includes construction of a 500-space surface transit station (park-and-ride) in the southwest quadrant of the CSAH 2l/CSAH 16 intersection. The actions by the Federal agencies, and the laws under which such actions were taken, are described in the Final Environmental Impact Statement (FEIS) for the project, approved on December 19, 2007; in the FHWA Record of Decision (ROD) issued on March 3, 2008; and in other documents in the FHWA project files. The FEIS, ROD and other project records are available by contacting the FHWA or Scott County at the addresses provided above. The FHWA FEIS and project information can be viewed and downloaded from the project Web site at http://www.co.scott.mn.us/wps/portal/ShowPage?CSF=825&CSI=csc0l5464.

This notice applies to all Federal agency decisions as of the issuance date of this notice and all laws under which such actions were taken, including but not limited to:

1. General: National Environmental Policy Act (NEPA) [42 U.S.C. 4321-4351]; Federal-Aid Highway Act [23 U.S.C. 109].

2. Land: Section 4(f) of the Department of Transportation Act of 1966 [49 U.S.C. 303]; Landscaping and Scenic Enhancement (Wildflowers) [23 U.S.C. 319].

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archaeological and Historic Preservation Act [16 U.S.C. 469-469(c)].

5. Social and Economic: Civil Rights Act of 1964 [42 U.S.C. 2000(d)-2000(d) (1)]; Farmland Protection Policy Act (FPPA) [7 U.S.C. 4201-4209].

6. Safe Drinking Water Act (SDWA) [42 U.S.C. 300(f)-300(j)(6)]; Flood Disaster Protection Act [42 U.S.C. 4001-4128].

7. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(1)(1).

Issued on: March 24, 2008.
Robin L. Schroeder,
Assistant Division Administrator, Federal Highway Administration, St. Paul, Minnesota.

[FR Doc. E8-6352 Filed 3-28-08; 8:45 am]

BILLING CODE 4910-22-M